DEPARTMENT OF THE INTERIOR

Fish and Wildlife Service

Notice of Intent To Prepare an Environmental Document for Issuance of an Incidental Take Permit Associated With a Habitat Conservation Plan at the Fort Ord Military Installation, Monterey County, CA

AGENCY: Fish and Wildlife Service, Interior.

ACTION: Notice of intent.

SUMMARY: Pursuant to the National Environmental Policy Act (NEPA) (42 U.S.C. 4321, et seq.), the U.S. Fish and Wildlife Service (Service) advises the public that we intend to perform a scoping process to gather information necessary to help develop a NEPA document and determine whether to prepare an Environmental Assessment (EA) or an Environmental Impact Statement (EIS) on the proposed Habitat Conservation Plan (HCP) for the former Fort Ord Federal military installation in Monterey County, California. The decision to prepare an EIS or EA is, in part, contingent upon the complexity of issues identified during and following the scoping phase of the NEPA process. The proposed Fort Ord HCP is being prepared in compliance with the Federal Endangered Species Act of 1973, as amended (ESA) (16 U.S.C. 1531 et seq.).

The HCP is meant to support the issuance of incidental take permits to the Fort Ord Reuse Authority (FORA), State Parks, University of California at Santa Cruz, California State University at Monterey Bay, and the County of Monterey (the Applicants) from the Service under section 10(a)(1)(B) of the ESA and from the California Department of Fish and Game (CDFG) under section 2081 of the California Fish and Game Code in compliance with the California Endangered Species Act (CESA).

We provide this notice to:

(1) Advise other Federal and State agencies, affected tribes, and the public of our intent to prepare an EA or an EIS;

(2) Announce the initiation of a 30-day public scoping period; and

(3) Obtain suggestions and information on the scope of issues and alternatives to be considered in the scoping process.

DATES: Public scoping meetings will be held on: Wednesday, October 13, 2004, from 3:30 p.m. to 5:30 p.m. and 7 p.m. to 9 p.m. Written comments should be received on or before October 29, 2004.

ADDRESSES: The public meeting will be held in the FORA Conference Facility/Bridge Center, 13th Street, Building 2925, Marina, CA 93933. Information, written comments, or questions related to the preparation of the EA or EIS and the NEPA process should be submitted to the U.S. Fish and Wildlife Service, Ventura Fish and Wildlife Office, 2493 Portola Road, Suite B, Ventura, California 93003; or FAX (805) 644-1766.

FOR FURTHER INFORMATION CONTACT: Diane Steeck at the above Ventura address, or at (805) 644-1766.

SUPPLEMENTARY INFORMATION:

Reasonable Accommodation

Persons needing reasonable accommodations in order to attend and participate in the public meeting should contact Marilyn Bishop of the Ventura Fish and Wildlife Office at 805-644-1766 as soon as possible. In order to allow sufficient time to process requests, please call no later than 1 week before the public meeting. Information regarding this proposed action is available in alternative formats upon request.

Background

The Former Fort Ord

The former Fort Ord military installation spans 28,000 acres near the cities of Seaside, Sand City, Monterey, Del Rey Oaks and Marina in Monterey County, California. Fort Ord was established in 1917 as a training for infantry troops. It was expanded for use as a maneuver and training ground for field artillery and cavalry troops stationed at the Presidio of Monterey. The 1991 Defense Base Realignment and Closure Commission recommended that Fort Ord be closed. The base was closed in September 1994.

Closure, disposal and reuse of former Fort Ord required consultation between the U.S. Department of the Army (Army) and the Service under section 7 of the ESA because the Army's actions potentially affected several species listed as threatened or endangered or proposed for listing under the ESA. As a result of that consultation, the Service issued a biological opinion on October 19, 1993, and subsequent biological and conference opinions in 1997, 1999, and 2002, finding that no jeopardy to federally listed plant and animal species or plants and animals proposed for listing would result from the Army's actions. A key provision of the Army's project description was the development and implementation of a habitat management plan (HMP) to minimize incidental take of listed species and their habitat and to mitigate for impacts to vegetation and wildlife resources resulting from the Army's actions. In the 1993 biological opinion, the Service also recommended that the Army's HMP consider all proposed and candidate species for Federal listing and other special-status species.

In response to this requirement, the Army developed the HMP with input from Federal, State, and local agencies and organizations concerned with the natural resources and reuse of Fort Ord. The Service, the Bureau of Land Management (BLM), CDFG, the California Department of Parks and Recreation (State Parks), the University of California (UC), the Fort Ord Reuse Authority (FORA) and other members of the local Monterey Bay area community were all active participants in the development of the HMP. The HMP thus describes a cooperative Federal, State, and local conservation program for plant and animal species and habitats of concern known to occur at Fort Ord.

The HMP's conservation program establishes land use categories and habitat management requirements for all lands on the former base. Developable lands and habitats reserve areas are defined along with habitat corridors and restricted development areas. Resources conservation and management requirements are described and responsible parties for each designated habitat area on the former base are identified.

While the conservation program established by the HMP is intended to be a comprehensive program for the former base, it stems form an agreement between the Army and the Service and does not exempt other landowners (existing or future) of transferred property from ESA section 9 prohibitions against take of listed species or from compliance with the provisions of CESA. Under the ESA, the following activities are defined as take: harass, harm, pursue, hunt, shoot, wound, kill, trap, capture or collect listed animal species, or attempt to engage in such conduct (16 U.S.C. 1538). However, the HMP was also produced with the intent of benefiting all parties involved in the reuse of the former base by establishing a basis for regulatory compliance for other landowners of transferred property. The HMP was intended to serve as the basis for the proposed HCP and to support the possible issuance of incidental take permits under section 10(a)(1)(B) of the ESA to non-Federal land recipients.

Habitat Conservation Plan (HCP)

The Service has recommended that all non-Federal entities acquiring lands at the former Fort Ord apply for section 10(a)(1)(B) incidental take permits for all species covered in the HMP (Covered Species). In addition, CDFG requires non-Federal entities to obtain incidental take permits pursuant to section 2081 of the California Fish and Game Code if State-listed species will be taken. Seven animal species that are either listed, candidates, or designated species of concern are proposed Covered Species under the HCP, including: Smith's blue butterfly (Euphilotes enoptes smithi), California linderiella (Linderiella occidentalis), California red-legged frog (Rana aurora draytoni), California tiger salamander (Ambystoma californiense), California black legless lizard (Anniella pulchra nigra), Western snowy plover (Charadrius alexandrinus nivosus), and Monterey ornate shrew (Sorex ornatus salarius). Eleven plant species that are either listed, candidate, or species of concern are also proposed Covered Species under the HCP, including: Sand gilia (Gilia tenuiflora ssp. arenaria), Monterey spineflower (Chorizanthe pungens var. pungens), Robust spineflower (Chorizanthe robusta var. robusta), Seaside bird's-beak (Cordylanthus rigidus var. littoralis), Toro manzanita (Arctostaphylos montereyensis), Sandmat manzanita (Arctrostaphylos pumila), Monterey ceanothus (Ceanothus cuneatus var. rigidus), Eastwood's ericameria (Ericameria fasciculate), Coast wallflower (Erysimum ammophilum), Yadon's piperia (Piperia yadoni), and Hooker's manzanita (Arctostaphylos hookeri). To apply for such permits, applicants must submit a conservation plan along with their applications. The HCP, integrating key components of the HMP with additional elements required of an HCP (pursuant to 50 CFR 17.22(b)) is being prepared to provide a stand-alone HCP that is satisfactory to the Service and CDFG.

Incidental take of Covered Species is proposed to occur as the former base is redeveloped consistent with the HCP. The proposed activities covered in the draft HCP include rehabilitation and construction of roads, utilities and other infrastructure to support new research/educational, residential, commercial, light industrial, recreational and other development, generating approximately 18,000 jobs. Management activities on non-federal lands such as weed control, fencing, and burning will also be included as proposed covered activities in the HCP. About 12,000 housing units are anticipated to be constructed on the former base supporting a population of about 37,000 people. To accommodate this growth and development, up to 6,000 acres of existing habitat on the former base will be removed. However, the base-wide program for habitat preservation and management of approximately 17,600 acres of lands on former Fort Ord is intended to minimize and fully mitigate losses to Covered Species and their habitats that would result from base redevelopment. The requested permit term is 50 years.

NEPA Document

The EA or EIS will consider the proposed action, the issuance of a section 10(a)(1)(B) permit under the Act, and a reasonable range of alternatives. A detailed description of the impacts of the proposed action and each alternative will be included in the EA or EIS. Several alternatives, including a No Action Alternative, will be considered and analyzed, representing varying levels of conservation, impacts, and permit area configurations. The No Action alternative means that the Service would not issue a section 10(a)(1)(B) permit.

The EA or EIS will identify potentially significant direct, indirect, and cumulative impacts on biological resources, land use, air quality, water quality, water resources, economics, and other environmental issues that could occur with the implementation of the Service's proposed actions and alternatives. For all potentially significant impacts, the EA or EIS will identify avoidance, minimization, and mitigation measures to reduce these impacts where feasible, to a level below significance. Where possible, we intend to incorporate by reference applicable sections from existing documents, such as the Army's 1993 EIS and 1996 Supplemental EIS on Fort Ord disposal and reuse.

Review of this project will be conducted in accordance with the National Environmental Policy Act of 1969, as amended (42 U.S.C. 4321 et seq.), NEPA regulations (40 CFR parts 1500-1508) found at (http://www.legal.gsa.gov), other appropriate Federal laws, and Service policies and procedures for compliance with those regulations. This notice is being furnished in accordance with 40 CFR 1501.7 of NEPA to obtain suggestions and information from other agencies and the public on the scope of issues and alternatives to be addressed in the EA or EIS. The primary purpose of the scoping process is to identify important issues raised by the public, related to the proposed action. Written comments from interested parties are welcome to ensure that the full range of issues related to the permit request is identified. Written comments are encouraged, and we will accept written comments at the public meetings. In addition, you may submit written comments by mail or facsimile transmission (see ADDRESSES). All comments received, including names and addresses, will become part of the official administrative record and may be made available to the public.

Dated: September 21, 2004.
Ron Cole,
Deputy Manager, California/Nevada Operations Office, U.S. Fish and Wildlife Service.

[FR Doc. 04-21813 Filed 9-28-04; 8:45 am]

BILLING CODE 4310-55-M